DEPARTMENT OF THE INTERIOR

Bureau of Land Management

[AK-010-08-1610-DQ-086L]

Notice of Availability of the Record of Decision for the Ring of Fire Resource Management Plan/Environmental Impact Statement (RMP/EIS)

AGENCY: Bureau of Land Management, Interior.

ACTION: Notice of Availability of Record of Decision (ROD).

SUMMARY: In accordance with the National Environmental Policy Act (NEPA), the Federal Land Policy and Management Act (FLPMA), and Bureau of Land Management (BLM) management policies, the BLM announces the availability of the RMP/ROD for the Ring of Fire planning area, located in southeast and southcentral Alaska, Kodiak Island, and the Aleutian Islands.

ADDRESSES: Copies of the Ring of Fire RMP/ROD are available upon request from the Field Manager, Anchorage Field Office, Bureau of Land Management, 6881 Elmore Road, Anchorage, AK 99507, or via the Internet at http://www.blm.gov/.

FOR FURTHER INFORMATION CONTACT: Mike Zaidlicz, Field Manager, Anchorage Field Office, 6881 Elmore Road, Anchorage, AK 99507, (907) 267-1246 or toll free (800) 478-1263.

SUPPLEMENTARY INFORMATION: The Ring of Fire RMP was developed with broad public participation through a three-year collaborative planning process. This RMP/ROD addresses management of approximately 1.3 million acres of BLM-administered public lands and mineral estate in the planning area. The Ring of Fire RMP/ROD is designed to achieve or maintain desired future conditions developed through the planning process. It includes a series of management actions to meet the desired resource conditions for upland and riparian vegetation, wildlife habitats, cultural and visual resources, and recreation.

The approved Ring of Fire RMP is the same as Alternative D in the Ring of Fire Proposed RMP/Final EIS, published in July 2006, with two exceptions:

1. In response to a protest from the Alaska Coalition/American Rivers, the BLM will defer Wild and Scenic River suitability determinations for segments identified in the RMP as “Eligible.” The BLM will manage these rivers in a manner that maintains or enhances the values that supported the rivers' eligibility until land ownership in the planning area is finalized. At that time, suitability determinations will be made through an amendment to the Ring of Fire RMP.

2. In response to a protest received from Lynn Canal Conservation, Inc., the BLM will defer the final determination on the establishment of an Area of Critical Environmental Concern (ACEC) for the Haines Block lands. The BLM will reconsider the application of the Importance Criteria found in BLM Manual 1613 and will provide an additional 60-day comment period at that time to gather public input on the Haines Block ACEC. Establishment of an ACEC would require an RMP amendment. In the interim, the lands will be managed as they are currently.

All other portions of the Approved RMP are identical to those set forth in July 2006.

No inconsistencies with State or local plans, policies, or programs were identified during the Governor's consistency review of the Proposed RMP/Final EIS.

Dated: January 18, 2008.
Thomas P. Lonnie,
State Director.

[FR Doc. E8-5646 Filed 3-20-08; 8:45 am]

BILLING CODE 4310-JA-P